DEPARTMENT OF TRANSPORTATION

Federal Transit Administration

[Docket No. FTA-2016-0030]

Transit Asset Management: Proposed Guidebooks

AGENCY: Federal Transit Administration (FTA), DOT.

ACTION: Notice of availability of proposed guidebooks and request for comments.

SUMMARY: FTA has placed in the docket and on its Web site proposed guidance in the form of two FTA guidebooks to facilitate implementation of FTA's Transit Asset Management program: (1) “Guideway Performance Restriction Calculation” and (2) “Facility Condition Assessment.” The purpose of the proposed guidebooks is to inform the transit community of calculation methodologies for state of good repair performance measures for infrastructure and facilities. By this notice, FTA seeks public comment on the proposed guidebooks.

DATES: Comments must be submitted by September 26, 2016. Late-filed comments will be considered to the extent practicable.

ADDRESSES: Please submit your comments by only one of the following methods, identifying your submission by DOT Docket Number FTA-2016-0030. All electronic submissions must be made to the U.S. Government electronic site at http://www.regulations.gov.

Federal e-Rulemaking Portal: Go to http://www.regulations.gov and follow the online instructions for submitting comments.

Mail: Docket Management Facility: U.S. Department of Transportation, 1200 New Jersey Avenue SE., West Building, Ground Floor, Room W12-140, Washington, DC 20590-0001.

Hand Delivery or Courier: West Building Ground Floor, Room W12-140, 1200 New Jersey Avenue SE., between 9 a.m. and 5 p.m. Eastern time, Monday through Friday, except Federal holidays.

Fax: 202-493-2251.

Instructions: You must include the agency name (Federal Transit Administration) and Docket number (FTA-2016-0030) for this notice at the beginning of each submission of your comments. Submit two copies of your comments if you submit them by mail. For confirmation that FTA received your comments, include a self-addressed stamped postcard. All comments received will be posted without change to www.regulations.gov including any personal information provided and will be available to internet users. You may review DOT's complete Privacy Act Statement published in the Federal Register on April 11, 2000 (65 FR 19477) or http://DocketsInfo.dot.gov.

Docket: For access to the docket to read background documents and comments received, go to www.regulations.gov at any time or to the U.S. Department of Transportation, 1200 New Jersey Avenue SE., Docket Operations, M-30, West Building Ground Floor, Room W12-140, Washington, DC 20590 between 9:00 a.m. and 5:00 p.m. Eastern Standard Time, Monday through Friday, except Federal holidays.

FOR FURTHER INFORMATION CONTACT: For program matters, contact John Giorgis, FTA Office of Budget and Policy, at (202) 366-5430, or john.giorgis@dot.gov. For legal matters, contact Charla Tabb, FTA Attorney-Advisor, Office of Chief Counsel, at (202) 366-5152 or charla.tabb@dot.gov.

SUPPLEMENTARY INFORMATION:

Table of Contents

I. Background

II. Overview of Guidebooks

A. Facility Condition Assessment

B. Guideway Performance Restriction Calculation

I. Background

The proposed documents incorporate changes to FTA's programs due to the Moving Ahead for Progress in the 21st Century Act (MAP-21); the publication of the final rule for FTA's National Transit Asset Management (TAM) System and amendments to the National Transit Database (NTD) regulations; and changes in terminology used in the 2012 Asset Management Guide. The proposed documents reflect these changes, propose policies, and add information.

In today's Federal Register, FTA has issued its final rule for the National Transit Asset Management (TAM) System and the final notice for the National Transit Database Asset Inventory Module. The final rule includes four (4) state of good repair (SGR) performance measures for capital assets: (1) Equipment: (non-revenue) service vehicles; The performance measure for non-revenue, support-service and maintenance vehicles equipment is the percentage of those vehicles that have met or exceeded their useful life benchmark (ULB); (2) Rolling stock. The performance measure for rolling stock is the percentage of revenue vehicles within a particular asset class that have either met or exceeded their ULB; (3) Infrastructure: rail fixed-guideway, track, signals, and systems. The performance measure for rail fixed-guideway, track, signals, and systems is the percentage of track segments with performance restrictions; and (4) Facilities. The performance measure for facilities is the percentage of facilities within an asset class, rated below condition 3 on the TERM scale.

This notice announces the availability of proposed guidebooks for calculating infrastructure and facilities performance measures: “Guideway Performance Restriction Calculation” (Infrastructure) and “Facility Condition Assessment” (Facilities).

The proposed guidebooks are not included in this notice; instead, electronic versions are available on FTA's Web site, at www.transit.dot.gov/TAM, and in the docket, at www.regulations.gov. Paper copies of the proposed guidebooks may be obtained by contacting FTA's Administrative Services Help Desk at (202) 366-4865.

FTA seeks comment on the proposed guidebooks. FTA will publish a second notice in the Federal Register after the close of the comment period. The second notice will respond to comments received and announce the availability of the final guidebooks.

II. Overview of Guidebooks

The final rule includes performance measures for infrastructure and facilities categories; however it was silent with regard to calculation methodologies. The guidebooks referenced herein provide both standard terminology and calculation options for transit providers to conform to the proposed SGR performance measures for infrastructure and facilities. Specifically the guidebooks describe how to measure and report the Infrastructure and Facility performance measures to the NTD.

Each guidebook is organized into four main sections:

Section 1 describes the scope and provides a brief policy background, linking it to the requirements of the NTD.

Section 2 outlines data requirements and definitions relating to reporting guideway performance restriction or facility condition data.

Section 3 details procedures for specific measurement of each performance measure.

Section 4 presents a set of appendices, including a glossary of terms, example forms, and references.

A. Performance Restriction Calculation

This guidebook provides an objective definition of a performance restriction and step-by-step procedures for calculating guideway under-performance restrictions.

B. Facility Condition Assessment

This guidebook details facility components and sub-components, and provides instructions on how to assess their condition.

FTA encourages interested stakeholders to carefully review the proposed guidebooks in their entirety, particularly the definitions, calculations, and templates, and provide comments to the docket.

Issued in Washington, DC, this 14th day of July 2016.
Carolyn Flowers,
Acting Administrator.

[FR Doc. 2016-17076 Filed 7-25-16; 8:45 am]

BILLING CODE P